DEPARTMENT OF STATE

[Public Notice 3461]

Bureau of Educational and Cultural Affairs; English Language Fellow Program

NOTICE: Request for proposals.

SUMMARY: The Office of English Language Programs of the Bureau of Educational and Cultural Affairs announces an open competition for the 2001 English Language Fellow Program. The program consists of English Language Fellows, who are recent TEFL/TESL M.A. graduates (within the last five years), and senior English Language Fellows, who are experienced English as a foreign language teacher trainers.

Public and private non-profit organizations meeting the provisions described in IRS regulation 26 CFR 1.501[c] may submit proposals to administer and manage the English Language Fellow Program, which is designed to provide universities, binational centers, teacher-training colleges, ministries of education and other educational language institutions worldwide with professionally trained American expertise in English as a Foreign Language (EFL).

The goal of this program is to promote the teaching of English to facilitate democratic institution building and to encourage participation in the global economy. An introduction to American English, methodology and materials opens the door for advanced study in the U.S., and to develop and promote mutual understanding.

Program Information

The Bureau of Educational and Cultural Affairs is soliciting proposals from U.S. non-profit educational institutions/organizations to manage and administer the 2001 English Language Fellow Programs. English Language Fellows must be U.S. citizens. The programs are for an eleven-month period beginning with academic year 2001-2002. One-year extensions will be granted only under exceptional circumstances, and require agreement of the Bureau, U.S. Embassy, host institution, and the fellow.

The English Language Fellows are not employees of the Bureau or the grantee organization. Selection of countries which will receive English Language Fellows will be made by the Bureau. The programs have placed over 250 English language professionals worldwide in the past five years, promoting English Teaching as a response to the dramatic increase in the demand for English caused by political and/or economic changes.

The program is open to English language professionals at two different levels:

A. The English Language Fellows are recent TEFL/TESL M.A. graduates (within the last five years) who provide expertise to institutions selected by U.S. Embassies abroad while gaining international teaching experience. The fellows serve as full-time teachers of English as a Foreign Language (EFL). They may teach up to 20 hours of English a week in the host program. In addition, they may be asked to work in materials and test development or teacher-training activities. They should not be assigned administrative duties. The sum of all duties should not exceed 40 hours per week.

B. The senior English Language Fellows are experienced EFL trainers who have a M.A. or higher degree in TEFL/TESL or a closely related field and have overseas teacher training experience. The senior fellows serve as full-time teacher trainers of English as a foreign language as well as serving in program-related activities such as: (1) Teaching English for Specific Purposes (ESP) in a variety of professional fields such as business, law and economics; (2) designing and developing EFL curricula and materials; (3) conducting program evaluation and design; (4) testing; and (5) organizing and hosting country-wide workshops and conferences.

The grant period should begin on/about January 15, 2001 and extend through September 30, 2002.

The grantee organization is responsible for the management and administrative aspects of the program, which include the following:

—Recruitment, selection and placement of approximately 24 English Language Fellows and approximately 36 senior English Language Fellows in all areas of the world at universities, binational centers, teacher-training colleges, ministries of education and other educational language institutions;

—Pre-departure orientations;

—Mid-year senior English Language Fellow conference (optional);

—Fiscal management and logistics;

—Travel management (reservations/itineraries, ticketing);

—Medical insurance enrollment;

—Development of promotional materials in support of programs;

—Monitoring: programs and individuals;

—Extensive monitoring, review and evaluation of English Language Fellow reports, including a preliminary report, a mid-year report, and a final, year-end report;

—Evaluation of and follow-on activities for programs;

—Establishment and maintenance of an alumni database of English Language Fellows.

The period of the program is from on/about February 15, 2001 through September 30, 2002. The recruitment and selection process will begin at the 2001 TESOL Convention in St. Louis, Missouri, February 2001; pre-departure orientations, third or fourth week of August 2001; and the fellows' departures to overseas assignments, first and second week of September 2001.

The grantee organization should provide a time line for all activities. The fellows will receive a basic stipend, living and housing allowance, pre-departure orientation travel to Washington, DC, pre-departure allowance, international round trip travel from U.S. residence to host country; book or materials allowance, miscellaneous expense and health/medical coverage up to $50,000 per illness/injury.

Programs must comply with J-1 visa regulations. Please refer to Solicitation Package for further information.

Budget Guidelines

Grants awarded to eligible organizations with less than four years of experience in conducting international exchange programs will be limited to $60,000. The Bureau anticipates awarding one grant in an amount not to exceed $2,725,000. Applicants must submit a comprehensive budget for the entire program. There must be a summary budget as well as breakdowns reflecting both administrative and program budgets. Applicants may provide separate sub-budgets for each program component, phase, location, or activity to provide clarification.

A. Allowable costs for the English Language Fellows (approx. 24 worldwide) include the following:
(1) Basic stipend | $13,750
(2) Round trip travel | 4,000
(3) Living allowance | 6,000
(4) Pre-departure orientation travel | 1,800
(5) Pre-departure allowance | 500
(6) Shipping allowance | 400
(7) Miscellaneous expense | 200
(8) Promotional/educational materials | 100
B. Allowable costs for the senior English Language Fellows (approx. 6 worldwide) include the following:
(1) Basic stipend | 21,000
(2) Round trip travel | 4,000
(3) Living allowance | 10,000
(4) Pre-departure round trip travel | 1,800
(5) Pre-departure allowance | 500
(6) Shipping allowance | 400
(7) Book allowance (up to) | 850
(8) In-country arrival orientation (1-2 days) (if not based in the host country) | 700
(9) In-country travel allowance (up to) | 750
(10) Miscellaneous expenses | 200
(11) Mid-year senior English Language Fellow conference (optional—if conference is held, grant will be amended to add additional funds)
C. Allowable costs for the senior English Language Fellows for Eastern Europe, the Balkans and the NIS (approx. 18) include the following: Albania (3), Azerbaijan (2), Croatia (2) Kosovo (6), Kazakhstan (1), Kyrgyzstan (1), Moldova (1), Ukraine (2)
(1) Basic stipend | 21,000
(2) Round trip travel | 4,000
(3) Living allowance | 16,000
(4) Pre-departure round trip travel | 1,800
(5) Pre-departure allowance | 500
(6) Shipping allowance | 400
(7) Book allowance (up to) | 850
(8) In-country arrival orientation (1-2 days) (if not based in capital city) | 700
(9) In-country travel allowance (up to) | 1,500
(10) Miscellaneous expenses | 200
(11) Mid-year senior English Language Fellow conference (optional—if conference is held, grant will be amended to add additional funds)
D. Allowable costs for the senior English Language Fellows for Russia (approx. 12) include the following:
(1) Basic stipend | 21,000
(2) Basic stipend (2) regional coordinators | 25,000
(3) Round trip travel | 4,000
(4) Living allowance | 16,500
(5) Pre-departure round trip travel | 1,800
(6) Pre-departure allowance | 500
(7) Shipping allowance | 400
(8) Book allowance (up to) | 850
(9) In-country arrival orientation (1-2 days) (if not based in capital city) | 700
(10) In-country travel allowance (up to) | 5,000
(11) Miscellaneous expenses | 255
(12) Mid-year senior English Language Fellow conference (optional—if conference is held, grant will be amended to add additional funds)

Please refer to the Solicitation Package for complete budget guidelines and formatting instructions.

Announcement Title and Number

All correspondence with the Bureau concerning this RFP should reference the above title and number ECA/A/L-01-01.

FOR FURTHER INFORMATION CONTACT: The Office of English Language Programs, ECA/A/L, Room 304, U.S. Department of State, 301 4th Street, SW., Washington, DC 20547, telephone: 202/619-5869 and fax number: 202/401-1250, Internet address: http://exchanges.state.gov/education/rfps to request a Solicitation Package. The Solicitation Package contains detailed award criteria, required application forms, specific budget instructions, and standard guidelines for proposal preparation. Please specify Bureau Program Officer Catherine Williamson on all other inquiries and correspondence.

Please read the complete Federal Register announcement before sending inquiries or submitting proposals. Once the RFP deadline has passed, Bureau staff may not discuss this competition with applicants until the proposal review process has been completed.

To Download a Solicitation Package via Internet

The entire Solicitation Package may be downloaded from the Bureau's website at http://exchanges.state.gov/education/rfps. Please read all information before downloading.

Deadline for Proposals

All proposal copies must be received at the Bureau of Educational and Cultural Affairs by 5 p.m. Washington, DC time on Friday, December 22, 2000. Faxed documents will not be accepted at any time. Documents postmarked the due date but received on a later date will not be accepted. Each applicant must ensure that the proposals are received by the above deadline.

Applicants must follow all instructions in the Solicitation Package. The original and ten copies of the application should be sent to: U.S. Department of State, SA-44, Bureau of Educational and Cultural Affairs, Ref.: ECA/A/L-01-01, Program Management, ECA/EX/PM, Room 534, 301 4th Street, SW., Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges.

Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of this goal in their program contents, to the fullest extent deemed feasible.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Proposals may also be reviewed by the Office of the Legal Adviser or by other Department elements. Final funding decisions are at the discretion of the Department of State's Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Program Planning: Detailed agenda and relevant work plan should demonstrate substantive undertakings and logistical capacity. Agenda and plan should adhere to the program overview and guidelines described above.

2. Ability To Achieve Program Objectives: Objectives should be reasonable, feasible, and flexible. Proposals should clearly demonstrate how the institution will meet the program's objectives and plan.

3. Multiplier Effect/Impact: Proposed programs should strengthen long-term mutual understanding, including maximum sharing of information and establishment of long-term institutional and individual linkages.

4. Support of Diversity: Proposals should demonstrate substantive support of the Bureau's policy on diversity. Achievable and relevant features should be cited in both program administration (selection of participants, program venue and program evaluation) and program content (orientation and wrap-up sessions, program meetings, resource materials and follow-up activities).

5. Institutional Capacity: Proposed personnel and institutional resources should be adequate and appropriate to achieve the program or project's goals.

6. Institution's Record/Ability: Proposals should demonstrate an institutional record of successful exchange programs, including responsible fiscal management and full compliance with all reporting requirements for past Bureau grants as determined by Bureau Grant Staff. The Bureau will consider the past performance of prior recipients and the demonstrated potential of new applicants.

7. Follow-on Activities: Proposals should provide a plan for continued follow-on activity (without Bureau support) ensuring that Bureau supported programs are not isolated events.

8. Project Evaluation: Proposals should include a plan to evaluate the activity's success, both as the activities unfold and at the end of the program. A draft survey questionnaire or other technique plus description of a methodology to use to link outcomes to original project objectives is recommended. Successful applicants will be expected to submit intermediate reports after each project component is concluded or quarterly, whichever is less frequent.

9. Cost-effectiveness/cost-sharing: The overhead and administrative components of the proposal, including salaries and honoraria, should be kept as low as possible. All other items should be necessary and appropriate. Proposals should maximize cost-sharing through other private sector support as well as institutional direct funding contributions.

10. Value to U.S.-Partner Country Relations: Proposed projects should receive positive assessments by the U.S. Department of State's geographic area desk and overseas officers of program need, potential impact, and significance in the partner country(ies).

11. TEFL/TESL Background: Proposal should demonstrate a plan to network that allows for the greatest dissemination of information to the profession of Teachers of English as a Second or Foreign Language; moreover, grantee must be able to provide knowledgeable, TEFL/TESL-qualified, experienced staff capable of interviewing candidates and evaluating their qualifications for teaching and/or developing materials or for conducting teacher training in the context of English as a foreign language in accordance with criteria established by the Bureau.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.”

The funding authority for the program above is provided through legislation. There will be three (3) sources of funding for this program: The Bureau's Exchanges Appropriation; and Support for East European Democracy (SEED) and Freedom Support Act (FSA) interagency transfers.

Notice

The terms and conditions published in this RFP are binding and may not be modified by any Bureau representative. Explanatory information provided by the Bureau that contradicts published language will not be binding. Issuance of the RFP does not constitute an award commitment on the part of the Government. The Bureau reserves the right to reduce, revise, or increase proposal budgets in accordance with the needs of the programs and the availability of funds. Awards made will be subject to periodic reporting and evaluation requirements.

Notification

Final awards cannot be made until funds have been appropriated by Congress, allocated and committed through internal Bureau procedures.

Dated: October 26, 2000.
Helena Kane Finn,
Principal Deputy Assistant Secretary, Bureau of Educational and Cultural Affairs, U.S. Department of State.

[FR Doc. 00-28185 Filed 11-1-00; 8:45 am]

BILLING CODE 8230-01-P